DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: December 1, 2010, 11 a.m. to 3 p.m., EST.

Place: Conference Call.

Status: The meeting will be open to the public. The conference call access will be limited only by availability of telephone ports.

Purpose: The members of the ACICBL will begin the planning required to develop the Eleventh Annual Report for the Secretary of the Department of Health and Human Services (the Secretary) and Congress, focusing on a relevant topic that will enhance the mission of the Title VII training programs. The meeting will afford Committee members with the opportunity to review the urgent issues related to the training programs under its purview, identify resources that will address gaps and further strengthen the outcomes from these efforts, and offer recommendations for improvement of these training programs for the Secretary and the Congress.

Agenda: The ACICBL agenda includes an opportunity for each member to offer ideas for the upcoming report along with identifying consultants in specific areas who could provide expert testimony. The staff writer provided by the Health Resources and Services Administration, Bureau of Health Professions will be introduced and given an opportunity to offer a strategy for outlining the upcoming report. Agenda items are subject to change as dictated by the priorities of the Committee.

SUPPLEMENTARY INFORMATION: Requests to make oral comments or to provide written comments to the ACICBL should be sent to Dr. Joan Weiss, Designated Federal Official at the contact information below. Individuals who plan to participate on the conference call should notify Dr. Weiss at least three days prior to the meeting, using the address and phone number below. Members of the public will have the opportunity to provide comments. The meeting phone number is 888-790-1767 and the pass code is ACICBL or 224225. Interested parties should refer to meeting subject as the HRSA Advisory Committee on Interdisciplinary, Community-Based Linkages.

FOR FURTHER INFORMATION CONTACT: Anyone requesting information regarding the ACICBL should contact Dr. Joan Weiss, Designated Federal Official within the Bureau of Health Professions, Health Resources and Services Administration, in one of three ways: (1) Send a request to the following address: Dr. Joan Weiss, Designated Federal Official, Bureau of Health Professions, Health Resources and Services Administration, Parklawn Building, Room 9-36, 5600 Fishers Lane, Rockville, Maryland 20857; (2) call (301) 443-6950; or (3) send an e-mail to jweiss@hrsa.gov. In the absence of Dr. Weiss, CAPT Norma J. Hatot, Senior Nurse Consultant, can be contacted via telephone at (301) 443-2681 or by e-mail at nhatot@hrsa.gov.

Dated: October 12, 2010.
Wendy Ponton,
Director, Division of Management.

[FR Doc. 2010-26203 Filed 10-18-10; 8:45 am]

BILLING CODE 4165-15-P